FEDERAL COMMUNICATIONS COMMISSION

47 CFR Part 73

[DA 04-1028; MB Docket No. 03-196; RM-10626]

Radio Broadcasting Services; Mt. Vernon and Okawville, IL; St. Louis, MO

AGENCY: Federal Communications Commission.

ACTION: Final rule.

SUMMARY: In response to a Notice of Proposed Rulemaking, 68 FR 56811 (October 2, 2003), this document grants a petition for rulemaking filed by Benjamin Stratemeyer, licensee of Station WIBV(FM), Mount Vernon, Illinois, seeking to amend the FM Table of Allotments by reallotting Channel 271B1 from Mount Vernon to Okawville, Illinois, as the community's first local aural transmission service, and modifying the license of Station WIBV(FM) to reflect the change of community. To accommodate the proposal consistent with the minimum distance separation requirements of the Commission's rules, this document also grants the reclassification of Station KEZK-FM, St. Louis, Missouri, to specify operation on Channel 273C0 in lieu of Channel 273C. No response was filed to the Order to Show Cause issued to Infinity Radio Subsidiary Operations, Inc., licensee of Station KEZK(FM). Channel 271B1 is allotted to Okawville in compliance with the Commission's minimum distance separation requirements with a site restriction of19.0 kilometers (11.8 miles) southeast of the community.¹ Coordinates for Channel 271B1 at Okawville are 38-21-56 NL and 89-21-2 WL.

¹ Coordinates for Channel 271B1 at Okawville are 38-21-56 NL and 89-21-2 WL.

DATES: Effective June 4, 2004.

FOR FURTHER INFORMATION CONTACT: Victoria M. McCauley, Media Bureau, (202) 418-2180.

SUPPLEMENTARY INFORMATION: This is a synopsis of the Commission's Report and Order, MB Docket No. 03-196, adopted April 14, 2004, and released April 19, 2004. The full text of this Commission decision is available for inspection and copying during normal business hours in the FCC Reference Center (Room 239), 445 12th Street, SW., Washington, DC. This document may also be purchased from the Commission's duplicating contractor, Qualex International, Portals II, 445 12th Street, SW., Room CY-B402, Washington, DC 20554, telephone 202-863-2893, facsimile 202-863-2898, or via e-mail qualexint@aol.com.

List of Subjects in 47 CFR Part 73

Radio, Radio broadcasting.

Part 73 of Title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Illinois is amended by removing Channel 271B1 at Mount Vernon and adding Okawville, Channel 271B1.

3. Section 73.202(b), the Table of FM Allotments under Missouri is amended by removing Channel 273C and adding Channel 273C0 at St. Louis.

Federal Communications Commission.
John A. Karousos,
Assistant Chief, Audio Division, Media Bureau.

[FR Doc. 04-10579 Filed 5-7-04; 8:45 am]

BILLING CODE 6712-01-P